FEDERAL MARITIME COMMISSION

Notice of Agreements Filed

The Commission hereby gives notice of the filing of the following agreements under the Shipping Act of 1984. Interested parties may submit comments on agreements to the Secretary, Federal Maritime Commission, Washington, DC 20573, within ten days of the date this notice appears in the Federal Register. Copies of agreements are available through the Commission's Office of Agreements (202-523-5793 or tradeanalysis@fmc.gov).

Agreement No.: 011527-013.

Title: East Coast Americas Service.

Parties: Hanjin Shipping Co., Ltd.; Kawasaki Kisen Kaisha, Ltd.; and Yang Ming Marine Transport, Corp.

Filing Party: Howard A. Levy, Esq.; 80 Wall Street; Suite 1117; New York, NY 10005-3602.

Synopsis: The amendment adds Hyundai Merchant Marine Co., Ltd. effective July 17, 2007; and reflects the contribution of one vessel to the service by Hyundai and the allocation of projected vessel capacity among the parties.

Agreement No.: 012005.

Title: CSCL/CMA CGM Cross Slot Charter Agreement.

Parties: China Shipping Container Lines Co., Ltd.; China Shipping Container Lines (Hong Kong) Co., Ltd.; and CMA CGM, S.A.

Filing Party: Paul M. Keane, Esq.; Cichanowicz, Callan, Keane, Vengrow & Textor, LLP; 61 Broadway; Suite 3000; New York, NY 10006-2802.

Synopsis: The agreement authorizes the parties to exchange slots on separate services operating between ports on the U.S. Atlantic and Gulf coasts, and ports in Northern Europe, the Mediterranean, and Mexico.

By Order of the Federal Maritime Commission.
Dated: July 6, 2007.
Bryant L. VanBrakle,
Secretary.

[FR Doc. E7-13423 Filed 7-10-07; 8:45 am]

BILLING CODE 6730-01-P